SURFACE TRANSPORTATION BOARD

[Docket No. FD 36284]

Seven County Infrastructure Coalition—Rail Construction & Operation—in Utah, Carbon, Duchesne, and Uintah Counties, Utah

AGENCY: Surface Transportation Board.

ACTION: Notice of intent to prepare an environmental impact statement (EIS), availability of the draft scope of study for the EIS, scoping meetings, and request for comments.

SUMMARY: The Seven County Infrastructure Coalition (Coalition) plans to file a request with the Surface Transportation Board (Board) for authority to construct and operate an approximately 80-mile rail line between two terminus points in the Uinta Basin near Myton, Utah, and Leland Bench, Utah, and the interstate rail network. The construction and operation of the proposed rail line has the potential to result in significant environmental impacts; therefore, the Board's Office of Environmental Analysis (OEA) has determined that the preparation of an EIS is appropriate pursuant to the National Environmental Policy Act of 1969 (NEPA), as amended. The purpose of this notice is to inform stakeholders—including members of the public; tribes; federal, state, and local agencies; environmental groups; and potential shippers—interested in or potentially affected by the proposed project. OEA will hold public scoping meetings as part of the NEPA process. Comments submitted during scoping will assist OEA in defining the range of alternatives and potential impacts to be considered in the EIS. OEA has developed a Draft Scope of Study for the EIS for stakeholder review and comment. Public meeting dates and locations, along with the Draft Scope of Study, are provided below.

DATES: Comments on the Draft Scope of Study for the EIS are due by August 3, 2019. See the SUPPLEMENTARY INFORMATION section for meeting dates.

ADDRESSES: See the SUPPLEMENTARY INFORMATION section for meeting addresses. Scoping comments submitted by mail should be addressed to Joshua Wayland, Surface Transportation Board, c/o 9300 Lee Highway, Fairfax, VA 22031, Attention: Environmental filing, Docket No. FD 36284. Scoping comments may also be filed electronically on the Board's website, https://www.stb.gov, by clicking on the “E-FILING” link or on the Board-sponsored project website at www.uintabasinrailwayeis.com. Please refer to Docket No. FD 36284 in all correspondence, including e-filings, addressed to the Board.

FOR FURTHER INFORMATION CONTACT: Joshua Wayland, Office of Environmental Analysis, Surface Transportation Board, 395 E Street SW, Washington, DC 20423, or call the OEA's toll-free number for the project at 855-826-7596. Assistance for the hearing impaired is available through the Federal Information Relay Service at 1-800-877-8339. The website for the Board is https://www.stb.gov. For further information about the Board's environmental review process and the Environmental Impact Statement (EIS), you may also visit the Board-sponsored project website at www.uintabasinrailwayeis.com.

SUPPLEMENTARY INFORMATION:

Background

The Coalition proposes to construct and operate an approximately 80-mile rail line between two terminus points in the Uinta Basin near Myton, Utah, and Leland Bench, Utah, and the interstate rail network. The Coalition anticipates that shippers would use the proposed rail line to transport crude oil, gilsonite, coal, and other mineral and agricultural products out of the Uinta Basin to markets across the United States. The proposed rail line could also be used to move products and commodities, such as fracturing sand, proppant, steel, and machinery, to markets in the Uinta Basin. Based on current market conditions, the Coalition estimates that approximately 7 trains would move along the proposed rail line per day, on average, including loaded and unloaded trains, or 3.5 trains per day in each direction. Because the construction and operation of the proposed rail line could result in significant environmental impacts, OEA is hereby notifying interested stakeholders—including federal, state, and local agencies; tribes; environmental groups; potential shippers; and the public—that OEA intends to prepare an EIS to analyze the Coalition's proposal, pursuant to NEPA (42 U.S.C. 4321 et seq.).

The Coalition's preferred route would extend generally southwest from terminus points near Myton, Utah, and Leland Bench, Utah, to a connection with an existing rail line owned by Union Pacific Railroad Company (UP) near Kyune, Utah. It would generally parallel U.S. Route 191 through Indian Canyon and would be located within Utah, Carbon, Duchesne, and Uintah Counties in Utah (Indian Canyon Route). The Coalition has also identified two potential alternatives to the Indian Canyon Route that the Coalition believes would be economically and technically feasible. One of those proposed alternatives would connect the terminus points near Myton and Leland Bench to the UP rail line near Kyune by following Wells Draw and Argyle Canyon, crossing Utah, Carbon, Duchesne, and Uintah Counties in Utah (Wells Draw Route). The other proposed alternative would extend eastward from the terminus points near Myton and Leland Bench to a connection with a UP rail line near Craig, Colorado, and would cross Uintah and Duchesne Counties in Utah, as well as Moffat and Rio Blanco Counties in Colorado (Craig Route). Additional information regarding the proposed project, including detailed descriptions of the Indian Canyon, Wells Draw, and Craig Routes, are set forth in the Draft Scope of Study below.

In compliance with NEPA and the Federal Land Policy and Management Act of 1976, as amended, the Bureau of Land Management's (BLM's) Little Snake, White River, Vernal, Price, and Salt Lake Field Offices intend to participate as a cooperating agency on this EIS with the Board. Construction and operation of the Indian Canyon Route or the Wells Draw Route would require an issuance of a right-of-way across BLM-managed lands and could require amendments to the Vernal, Price, and Salt Lake Field Offices Resource Management Plans (RMPs). Construction and operation of the Craig Route would also require issuance of a right-of-way across BLM-managed lands and could require amendments to the Little Snake and White River RMPs. Therefore, if the Indian Canyon, Wells Draw, and Craig Routes are carried forward for analysis in the EIS, the EIS will include analysis of the potential RMP amendments.

In compliance with NEPA and the U.S. Forest Service's (Forest Service's) 2012 Planning Rule, the Forest Service's Ashley National Forest also intends to participate as a cooperating agency on this EIS with the Board. Because the Indian Canyon Route would cross National Forest System (NFS) lands, Forest Service approval for permitting the rail line right-of-way may be required. The Forest Service decision may also include amending the Ashley Forest Land and Resource Management Plan (Ashley Forest Plan). Therefore, the EIS will include analysis of that potential plan amendment.

Environmental Review Process

This notice initiates the public scoping period for the EIS. To begin the scoping process, OEA has developed a Draft Scope of Study that OEA is making available for public review and comment. Oral and written comments submitted during scoping will assist OEA in identifying other agencies with an interest or expertise in the project and defining the range of alternatives and potential impacts on the human and natural environment to be considered in the EIS. Public meeting dates and locations, as well as instructions for submitting written comments are provided below.

To date, OEA has invited several agencies to participate in this EIS process as cooperating agencies on the basis of their special expertise or jurisdiction by law. These agencies are the BLM, the Forest Service, the U.S. Army Corps of Engineers, the Bureau of Indian Affairs, and the State of Utah Public Lands Policy Coordinating Office. OEA is also initiating government-to-government consultation with the following potentially affected tribes.

• Ute Indian Tribe of the Uintah and Ouray Reservation, Utah

• Apache Tribe of Oklahoma

• Eastern Shoshone Tribe of the Wind River Reservation, Wyoming

• Confederated Tribes of the Goshute Reservation, Nevada and Utah

• Fort Belknap Indian Community of the Fort Belknap Reservation of Montana

• Hopi Tribe of Arizona

• Navajo Nation, Arizona, New Mexico, and Utah

• Northwestern Band of the Shoshone Nation, Utah

• Paiute Indian Tribe of Utah (Cedar Band of Paiutes, Kanosh Band of Paiutes, Koosharem Band of Paiutes, Indian Peaks Band of Paiutes, and Shivwits Band of Paiutes)

• Shoshone-Bannock Tribes of the Fort Hall Reservation, Idaho

• Skull Valley Band of Goshute Indians

• White Mesa/Ute Mountain Ute Tribe, Utah and Colorado

Additional cooperating agencies and interested tribes may be identified during the scoping process.

Interested parties are invited to submit written comments on the Draft Scope of Study, potential alternative routes for the proposed rail line, and other environmental issues and concerns during the 45-day public comment period, which ends on August 3, 2019, to assure full consideration during the scoping process. OEA will issue a Final Scope of Study after the close of the scoping comment period. After issuing the Final Scope of Study, OEA will prepare a Draft EIS for the project. The Draft EIS will address the environmental issues and concerns identified during the scoping process and assess and compare potential alternatives. It will also contain OEA's preliminary recommendations for environmental mitigation measures. The Draft EIS will be made available upon its completion for review and comment by the public, government agencies, and other interested parties. OEA will prepare a Final EIS that considers comments on the Draft EIS. In reaching its decision in this case, the Board will take into account the Draft EIS, the Final EIS, and all environmental comments that are received.

Public Scoping Meetings

OEA will hold six public scoping meetings in communities in the project area during the public comment period. The public scoping meetings will be held at the following locations on the dates listed.

• Monday July 15, 2019, 3-5 p.m. at the Ute Tribal Auditorium, 910 South 7500 East, Fort Duchesne, Utah.

• Tuesday July 16, 2019, 5-7 p.m. at the Moffat County Fairgrounds Pavilion, 640 E Victory Way, Craig, Colorado.

• Wednesday July 17, 2019, 5-7 p.m. at the Carbon County Event Center, 450 S Fairgrounds Road, Price, Utah.

• Thursday July 18, 2019, 11 a.m.-1 p.m. at the Grace Event Center, 1024 W Highway 40, Roosevelt, Utah.

• Thursday July 18, 2019, 5-7 p.m. at the Uintah Conference Center, 313 East 200 South, Vernal, Utah.

• Friday July 19, 2019, 10 a.m.-12 p.m. at Radisson Hotel Salt Lake City Downtown, 215 West South Temple, Salt Lake City, Utah.

The scoping meetings will be held in an open house format for the first half hour, followed by a brief presentation by OEA and an opportunity to provide public comments. A court reporter will be present to record the oral comments made during the meeting. We ask that public demonstrations—either in support of or opposed to the proposals—including signage, posters, and demonstrations, occur outside the meeting room. The meeting locations comply with the Americans with Disabilities Act of 1990 (42 U.S.C. 12101 et seq.). Persons that need special accommodations should telephone OEA's toll-free number for the project at 855-826-7596.

Possible Resource Management Plan Amendments

The proposed rail line could potentially cross BLM-administered lands for which a rail right-of-way may not currently be in conformance with the applicable RMPs. Therefore, the BLM may need to consider amending one or more RMPs to permit the rail line right-of-way. If so, the BLM intends to use the EIS to support decision-making regarding the issuance of a right-of-way and to consider amending the current Little Snake RMP (2011), White River RMP (1997), Price RMP (2008), Vernal RMP (2008), and the Salt Lake Pony Express RMP (1990), which may be necessary for railroad construction and operation, depending on which, if any, alternative route is ultimately approved by the Board. Plan amendments (see 43 CFR 1610.5-5) change one or more of the terms, conditions, or decisions of an approved land use plan. These decisions may include those relating to desired outcomes; measures to achieve desired outcomes, including resource restrictions; or land tenure decisions. Plan amendments are required to consider any proposal or action that does not conform to the current plan. BLM will hold a protest period following the publication of the Final EIS if the authorized alternative would require amendments to BLM RMPs. Additional information regarding the plan amendment process can be found in the BLM's Land Use Planning Handbook (https://www.blm.gov/policy/handbooks).

Possible Forest Land Management Plan Amendment

The proposed rail line could potentially cross NFS lands administered by the Ashley National Forest in Utah. Depending on which alternative is selected and the final engineering of that alternative, Forest Service approval for permitting the rail line right-of-way and associated construction and operation on NFS lands may be required. The Forest Service decision may also include amending the Ashley Forest Plan to ensure that approval of permitting the rail line right-of-way would be consistent with the Ashley Forest Plan. The Forest Service will use the EIS to inform the decision on the necessary approvals and, if needed, the Ashley Forest Plan amendment. In the event that the Forest Service determines that it intends to amend the Ashley Forest Plan, the Forest Service hereby gives notice that the scope is expected to be limited to the project only, and the scale of the amendment is the project area that occurs on NFS lands. The Forest Service also hereby gives notice that the substantive requirements of the 2012 Planning Rule (36 CFR part 219) likely to be directly related and, therefore, applicable to the Ashley Forest Plan amendments are 36 CFR 219.8(b)(1) and (2) (specifically scenic character), regarding social and economic sustainability, and 36 CFR 219.10(a)(1) (specifically scenery) and (3) (specifically transportation), regarding integrated resource management for multiple use. The Forest Service responsible official is the Ashley Forest Supervisor.

Draft Scope of Study for the EIS

Purpose and Need

As described by the Coalition, the purpose of the proposed rail line is to provide common-carrier rail service connecting the Uinta Basin in northeastern Utah to the interstate common-carrier rail network using a route that would allow the Coalition to attract shippers with a cost-effective rail alternative to trucking. Because the Uinta Basin is surrounded by high mountains and plateaus, the area has limited transportation options at present. Currently, all freight moving into and out of the basin is transported by trucks on the area's limited road network, which includes one north-south two-lane highway (U.S. Highway 191) and one east-west two-lane highway (U.S. Highway 40). The proposed project would provide a new, cost-effective surface transportation option for shippers seeking to transport products and commodities into and out of the Uinta Basin.

The proposed transaction involves a request from the Coalition for Board authority to construct and operate the proposed rail line. The proposed transaction is not a federal government-proposed or sponsored project. Thus, the project's purpose and need should be informed by both the private applicant's goals and the agency's enabling statute—the Interstate Commerce Act as amended by the ICC Termination Act, Public Law 104-188, 109 Stat. 803 (1996), which provides that the Board must approve a construction application unless it finds that the construction is “inconsistent with the public convenience and necessity.”

Proposed Action and Alternatives

The proposed rail line would extend from a connection with an existing UP rail line near Kyune, Utah to two termini within the Uinta Basin near Myton, Utah and Leland Bench, Utah. It would consist of a single track constructed of continuous-welded rail and would require a right-of-way approximately 100 feet wide along much of its length, although the right-of-way could be substantially wider in some locations. The proposed project would include significant regrading and cut-and-fill to traverse the rugged topography of the project area; new access roads for construction and right-of-way maintenance; several railroad tunnels; and crossings of local roads, streams, trails, and utility corridors.

Based on current market conditions, the Coalition estimates that approximately 7 trains would move along the proposed rail line per day, on average, including loaded and unloaded trains, or 3.5 trains per day in each direction. Rail traffic entering the Uinta Basin would likely move such products and commodities as fracturing sand, proppant, tubular steel, and oil industry machinery from the Midwest, Texas, the Southeast, and ports on the Pacific and Gulf coasts. Outbound trains would likely carry crude oil, gilsonite, coal, and other mineral and agricultural products to markets across the United States.

The EIS will analyze and compare the potential impacts of (1) construction and operation of the proposed rail line, (2) all reasonable and feasible alternative routes, and (3) the no-action alternative (denial of construction and operation authority). Information provided by the Coalition includes three proposed routes, as described below.

• Indian Canyon Route. This 80-mile route would connect an existing UP rail line owned by UP near Kyune, Utah to a terminus points in the Uinta Basin near Myton and Leland Bench. Starting at Leland Bench, approximately 9.5 miles south of Fort Duchesne, Utah, this route would proceed westward, past the South Myton Bench area, until intersecting Indian Canyon approximately two miles south of Duchesne, Utah. After entering Indian Canyon, the route would turn southwest and follow Indian Creek upstream toward its headwaters below Indian Creek Pass, paralleling U.S. Highway 191 for approximately 21 miles. The Indian Canyon Route would use a summit tunnel to pass through the West Tavaputs Plateau and, after emerging from the tunnel, would descend the Roan Cliffs to reach Emma Park, an open grassy area at the base of the Roan Cliffs. The route would then run westward through Emma Park and connect to the UP Provo Subdivision near the railroad timetable station at Kyune. At this time, the Coalition has identified the Indian Canyon Route as its preferred alternative.

• Craig Route. This route would be approximately 185 miles long and would connect an existing UP rail line near Axial, Colorado to two terminus points in the Uinta Basin near Myton and Leland Bench. The lines from those two terminus points would meet at a junction approximately four miles north of Leland Bench. From the junction, the Craig Route would proceed generally northward for approximately seven miles, then turn and proceed generally eastward, crossing the Green River approximately five miles south of Jensen, Utah. The route would then proceed southeasterly, entering Colorado approximately three miles northwest of Dinosaur, Colorado and would connect to the Deseret Power Railroad (DPR) south of Dinosaur. The Craig Route would utilize approximately 13 miles of the DPR to proceed eastward and would depart the DPR approximately two miles west of the Deserado Mine. It would then proceed generally eastward to connect to the UP Craig Subdivision near the railroad timetable station at Axial.

• Wells Draw Route. This route would be approximately 105 miles long and would connect an existing UP rail line near Kyune to two terminus points in the Uinta Basin near Myton Bench and Leland Bench. The lines from those two terminus points would meet at a junction approximately 6.5 miles south of South Myton Bench. From the junction, the Wells Draw Route would run southward, generally following Wells Draw towards its headwaters. After reaching the headwaters of Wells Draw, the route would turn westward and enter Argyle Canyon. It would remain on the north wall of Argyle Canyon for approximately 25 miles, eventually reaching the floor of the canyon near the headwaters of Argyle Creek. The route would then enter a summit tunnel through the West Tavaputs Plateau and, after emerging from the tunnel, would descend the Roan Cliffs to reach Emma Park. The route would run westward through Emma Park and connect to the UP Provo Subdivision near the railroad timetable station at Kyune.

Currently, the Coalition's preferred route is the Indian Canyon Route. Maps of that proposed route and the proposed alternatives described above are available on the Board-sponsored project website at www.uintabasinrailwayeis.com. OEA is interested in scoping comments on potential alternatives to the Coalition's proposed routes and will determine the final set of alternatives to be analyzed in the EIS during the scoping process.

Environmental Impact Analysis

Proposed New Construction and Operation

Analysis in the EIS will address the proposed activities associated with the construction and operation of the proposed rail line and its potential environmental impacts, as appropriate.

Impact Categories

The EIS will analyze potential direct, indirect, and cumulative impacts ¹ for the Coalition's proposed construction and operation and each reasonable and feasible alternative on the human and natural environment, or in the case of the no-action alternative, the lack of these activities. Impact areas addressed will include the categories of safety, transportation systems, land use, parks and recreation, biological resources, water resources including wetlands and other waters of the U.S., geology and soils, air quality, noise, energy resources, socioeconomics as they relate to physical changes in the environment, cultural and historic resources, aesthetics, and environmental justice. Other categories of impact areas may also be included as a result of comments received during the scoping process or on the Draft EIS. The EIS will include a discussion of each impact area assessed as it currently exists in the project area and will address the potential direct, indirect impacts, and cumulative impacts of the Coalition's preferred route and each reasonable and feasible alternative on each impact area as described below.

¹ NEPA requires the Board to consider direct, indirect, and cumulative impacts. Direct and indirect impacts are both caused by the action. 40 CFR 1508.8(a) and (b). A cumulative impact is the “incremental impact of the action when added to other past, present, and reasonably foreseeable future actions regardless of what agency (federal or non-federal) or person undertakes such other actions.” 40 CFR 1508.7.

1. Safety

If the proposed project would adversely or beneficially affect public safety, the EIS will:

a. Analyze the potential for an increase in accidents related to the proposed new rail operations, as appropriate.

b. Analyze the potential for increased probability of train accidents, as appropriate.

c. Evaluate the potential for disruption and delays to the movement of emergency vehicles.

d. Propose mitigative measures to minimize or eliminate potential project impacts on safety, as appropriate.

2. Transportation Systems

Because the proposed project would affect transportation systems, the EIS will:

a. Evaluate the potential impacts resulting from the Coalition's proposed route and each alternative on the existing transportation network in the project area.

b. Propose mitigative measures to minimize or eliminate potential adverse project impacts on transportation systems, as appropriate.

3. Land Use

Because the proposed project would affect land use, the EIS will:

a. Assess potential impacts of the proposed project on public lands, including lands administered by the BLM and Forest Service.

b. Analyze potential plan amendments that may be required to permit the rail right-of-way on public lands.

c. Evaluate potential impacts of the proposed project to the roadless character of Ashley National Forest.

d. Evaluate potential impacts of the Coalition's preferred route and each alternative on existing land use patterns within the project area and identify those land uses that would be potentially impacted by the proposed new rail line construction.

e. Analyze the potential impacts associated with each alternative on land uses identified within the project area. Such potential impacts may include incompatibility with existing land use and conversion of land to railroad use.

f. Propose mitigative measures to minimize or eliminate potential impacts on land use, as appropriate.

4. Parks and Recreation

If the proposed project would adversely or beneficially affect parks and recreational areas, the EIS will:

a. Evaluate existing conditions and the potential impacts of the Coalition's preferred route and each alternative, and their operation, on parks, recreational trails, and other recreational opportunities provided in the project area.

b. Propose mitigative measures to minimize or eliminate potential project impacts on recreational opportunities, as appropriate.

5. Biological Resources

If the proposed project would adversely or beneficially affect biological resources, the EIS will:

a. Evaluate the existing biological resources within the project area, including vegetative communities, wildlife, fisheries, and federal and state threatened or endangered species, and analyze the potential impacts on these resources resulting from each alternative.

b. Describe any wildlife sanctuaries, refuges, national or state parks, forests, or grasslands, and evaluate the potential impacts on these resources resulting from the Coalition's preferred route and each alternative.

c. Propose mitigative measures to avoid, minimize, or compensate for potential impacts on biological resources, as appropriate.

6. Water Resources

If the proposed project would adversely or beneficially affect water resources, the EIS will:

a. Describe the existing surface water and groundwater resources within the project area, including lakes, rivers, streams, stock ponds, wetlands, and floodplains, and analyze the potential impacts on these resources resulting from the Coalition's preferred route and each alternative.

b. Describe the permitting requirements for the various alternatives with regard to wetlands, stream and river crossings, water quality, floodplains, and erosion control.

c. Propose mitigative measures to avoid, minimize, or compensate for potential project impacts on water resources, as appropriate.

7. Geology and Soils

If the proposed project would adversely or beneficially affect geology and soils, the EIS will:

a. Describe the geology, soils, and seismic conditions found within the project area, including unique or problematic geologic formations or soils, prime farmland, and hydric soils, and analyze the potential impacts on these resources resulting from the Coalition's proposed route and each alternative.

b. Evaluate potential measures employed to avoid or construct through unique or problematic geologic formations or soils.

c. Propose mitigative measures to minimize or eliminate potential project impacts on geology and soils, as appropriate.

8. Air Quality

If the proposed project would adversely or beneficially affect air quality, the EIS will:

a. Evaluate the air emissions from the potential operation of trains on the Uinta Basin Railway, including potential greenhouse gas emissions, as appropriate.

b. Evaluate the potential emissions from the freighted product, as appropriate.

c. Evaluate the potential air quality impacts resulting from new rail line construction activities.

d. Propose mitigative measures to minimize or eliminate potential project impacts on air quality, as appropriate.

9. Noise and Vibration

If the proposed project would result in noise and vibration impacts, the EIS will:

a. Describe the potential noise and vibration impacts during new rail line construction resulting from the Coalition's preferred route and each alternative.

b. Describe the potential noise and vibration impacts of new rail line operation resulting from each alternative.

c. Propose mitigative measures to minimize or eliminate potential project impacts on sensitive noise receptors, as appropriate.

10. Energy Resources

If the proposed project would adversely or beneficially affect energy resources, the EIS will:

a. Describe and evaluate the potential impact of the proposed project on the distribution of energy resources in the project area resulting from the Coalition's preferred route and each alternative, including petroleum and gas pipelines and overhead electric transmission lines.

b. Propose mitigative measures to minimize or eliminate potential project impacts on energy resources, as appropriate.

c.

11. Socioeconomics

If the proposed project would result in adverse or beneficial socioeconomic impacts, the EIS will:

a. Analyze the effects of a potential influx of construction workers to the project area and the potential increase in demand for local services interrelated with natural or physical environmental effects.

b. Propose mitigative measures to minimize or eliminate potential project-related adverse impacts on social and economic resources, as appropriate.

12. Cultural and Historic Resources

If the proposed project would adversely or beneficially affect cultural and historic resources, the EIS will:

a. Identify historic buildings, structures, sites, objects, or districts eligible for listing on or listed on the National Register of Historic Places within the area of potential effects for the Coalition's preferred route and each alternative (built-environment historic properties) and analyze potential project impacts on them.

b. Identify properties of traditional religious and cultural importance to Indian tribes (Traditional Cultural Properties) and prehistoric or historic archaeological sites evaluated as potentially eligible, eligible, or listed on the National Register of Historic Places (archaeological historic properties) within the area of potential effects for the Coalition's preferred route and each alternative, and analyze potential project impacts on them.

c. Propose measures to avoid, minimize, or mitigate potentially adverse project impacts on Traditional Cultural Properties and built-environment historic properties, archaeological historic properties, and cultural and historic resources, as appropriate.

13. Aesthetics

If the proposed project would have adverse or beneficial aesthetic impacts, the EIS will:

a. Describe the potential impacts of the proposed project on any areas identified or determined to be of high visual quality.

b. Analyze visual impacts associated with the project and conformance with Forest Service and BLM visual resource classifications.

c. Describe the potential impacts of the proposed project on any waterways considered for or designated as wild and scenic.

d. Propose mitigative measures to minimize or eliminate potential project impacts on aesthetics, as appropriate.

14. Environmental Justice

If the proposed project would adversely or beneficially affect environmental justice communities, the EIS will:

a. Evaluate the potential impacts resulting from the Coalition's preferred route and each alternative on local and regional minority and low-income populations.

b. Propose mitigative measures to minimize or eliminate potential project impacts on environmental justice populations, as appropriate.

By the Board, Victoria Rutson, Director, Office of Environmental Analysis.
Jeffrey Herzig,
Clearance Clerk.

[FR Doc. 2019-12836 Filed 6-18-19; 8:45 am]

BILLING CODE 4915-01-P